DEPARTMENT OF ENERGY

Federal Energy Regulatory Commission

[Project No. 2741-037]

Kings River Conservation District; Notice of Availability of Environmental Assessment

In accordance with the National Environmental Policy Act of 1969 and the Federal Energy Regulatory Commission's (Commission or FERC) regulations, 18 Code of Federal Regulations (CFR) Part 380, Commission staff reviewed Kings River Conservation District's application for an amendment to the license of the Pine Flat Hydroelectric Project No. 2741 and have prepared an Environmental Assessment (EA). The licensee proposes to add a fourth generating unit (Unit 4) to the project that will utilize flows from the bypass system. The new Unit 4 would utilize flows up to 375 cfs but would not increase the existing 8,000 cfs maximum hydraulic capacity and would increase the generating capacity of the project by 3.8%. Unit 4 would be constructed in a previously disturbed area at the toe of the U.S. Army Corps of Engineers' Pine Flat Dam. The project is located on the Kings River in Fresno County, California. The project is located at the U.S. Army Corps of Engineers' Pine Flat Dam.

The EA contains Commission staff's analysis of the potential environmental effects of the proposed amendment to the licensee, and concludes that the proposed amendment, with appropriate environmental protective measures, would not constitute a major federal action that would significantly affect the quality of the human environment.

A copy of the EA may be viewed on the Commission's website at http://www.ferc.gov using the “elibrary” link. Enter the docket number (P-7590) in the docket number field to access the document. For assistance, contact FERC Online Support at FERCOnlineSupport@ferc.gov or toll-free at 1-866-208-3372, or for TTY, (202) 502-8659.

For further information, contact Jeffrey V. Ojala at 202-502-8206 or Jeffrey.Ojala@ferc.gov.

Dated: March 31, 2023.
Kimberly D. Bose,
Secretary.

[FR Doc. 2023-07201 Filed 4-5-23; 8:45 am]

BILLING CODE 6717-01-P